NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before February 12, 2001. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-713-6852 or by e-mail to records.mgt@arch2.nara.gov. Requesters must cite the control number, which appears in parentheses after the name of the agency which submitted the schedule, and must provide a mailing address. Those who desire appraisal reports should so indicate in their request.

FOR FURTHER INFORMATION CONTACT: Marie Allen, Director, Life Cycle Management Division (NWML), National Archives and Records Administration, 8601 Adelphi Road, College Park, MD 20740-6001. Telephone: (301) 713-7110. E-mail: records.mgt@arch2.nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Army, Agency-wide (N1-AU-00-14, 44 items, 44 temporary items). Records relating to petroleum management, inventory management, and maintenance. Included are such records as petroleum supply reports, reports on the testing of petroleum products, property books, soldier issue files, requisitions, supply codes, and maintenance requests. Also included are electronic copies of documents created using electronic mail and word processing. This schedule allows the agency to expedite disposal of these short-term facilitative records, which were previously approved for disposal. It also authorizes the agency to apply the proposed disposition instructions to any recordkeeping medium.

2. Department of the Army, Agency-wide (N1-AU-00-33, 89 items, 89 temporary items). Records relating to management activities, including the management of installations, information management, information control, office management, the management of waterborne commerce, and public information programs. Included are records relating to such matters as agreements for support services, telephone services, printing operations, public inquiries, vessel operations, and waterway traffic through locks and canals. Also included are electronic copies of documents created using electronic mail and word processing. This schedule allows the agency to expedite disposal of these short-term facilitative records, which were previously approved for disposal. It also authorizes the agency to apply the proposed disposition instructions to any recordkeeping medium.

3. Department of the Army, Agency-wide (N1-AU-00-34, 33 items, 33 temporary items). Records relating to standardization, communications-electronics, and facilities engineering. Included are records relating to such matters as agreements to test equipment, forecasts of needs for cable and similar equipment, estimates for projects prepared by facility engineers, the maintenance of heating and cooling systems, roof inspections, and land management at installations. Also included are electronic copies of documents created using electronic mail and word processing. This schedule allows the agency to expedite disposal of these short-term facilitative records, which were previously approved for disposal. It also authorizes the agency to apply the proposed disposition instructions to any recordkeeping medium.

4. Department of the Army, Agency-wide (N1-AU-00-35, 106 items, 106 temporary items). Records relating to transportation and travel, including surface transportation, motor transportation, air transportation, courier service, and aviation. Included are records relating to such subjects as the issuance of passports to military and civilian personnel, the clearance of air shipments, the unloading of shipments, baggage inspections, vessel clearances, the allocation of motor vehicles, the cost of courier operations, local flight rules, flight plans, and airspace utilization. Also included are electronic copies of documents created using electronic mail and word processing. This schedule allows the agency to expedite disposal of these short-term facilitative records, which were previously approved for disposal. It also authorizes the agency to apply the proposed disposition instructions to any recordkeeping medium.

5. Department of the Army, Agency-wide (N1-AU-00-36, 117 items, 117 temporary items). Records relating to logistics and supply matters. Records relate to such matters as product assurance and the cataloging, procurement, requisition, issue, storage, marking, packing, maintenance, utilization, and disposal of supplies and equipment. Also included are electronic copies of documents created using electronic mail and word processing. This schedule allows the agency to expedite disposal of these short-term facilitative records, which were previously approved for disposal. It also authorizes the agency to apply the proposed disposition instructions to any recordkeeping medium.

6. Department of Commerce, National Oceanographic and Atmospheric Administration (N1-370-99-7, 6 items, 3 temporary items). Random aerial photographs taken by satellite, magnetic tapes dating from 1977-1989 that lack documentation or finding aids, and procedural guidance for measuring the upper atmosphere in airplanes. Records proposed for permanent retention include civil penalty case files, policy and planning files, and international cooperative research agreements.

7. Department of Defense, Office of the Inspector General (N1-509-00-5, 38 items, 35 temporary items). Records relating to intelligence oversight, including such records as inquiries, reference files, administrative procedures, files pertaining to the work of project teams, and electronic copies of documents created using electronic mail and word processing. Proposed for permanent retention are recordkeeping copies of schedules for conducting intelligence reviews, records that relate to the policies and procedures governing intelligence reviews, and intelligence review case files.

8. Department of Defense, National Imagery and Mapping Agency (N1-537-01-2, 59 items, 59 temporary items). Paper and electronic records relating to facilities, including electronic copies of documents created using electronic mail and word processing. Records relate to such matters as design and construction activities, maintenance, the operation of utilities, engineering services and studies, and the acquisition, utilization, management, and disposal of real and installed property.

9. Department of Health and Human Services, Office of the Secretary (N1-468-01-1, 3 items, 3 temporary items). International Merchant Purchase Authorization Card records. Files include all required forms, charge and credit slips, cash register receipts, statements signed by the cardholder and vendor, and other transaction documentation. Also included are electronic copies of documents created using electronic mail and word processing.

10. Department of Health and Human Services, Agency for Healthcare Research and Quality (N1-510-01-1, 3 items, 3 temporary items). International Merchant Purchase Authorization Card records. Files include all required forms, charge and credit slips, cash register receipts, statements signed by the cardholder and vendor, and other transaction documentation. Also included are electronic copies of documents created using electronic mail and word processing.

11. Department of the Interior, National Park Service (N1-79-97-1, 4 items, 3 temporary items). Planning and design case files relating to construction and maintenance projects that lack historical significance and electronic copies of documents created using electronic mail and word processing systems that relate to projects. Recordkeeping copies of selected case files are proposed for permanent retention, including files that pertain to projects that have national or regional significance, generate significant impact on tourism or facilities, improve the preservation of historic or natural resources, or document major additions to existing structures.

12. Department of Justice, Federal Bureau of Investigation (N1-65-00-3, 2 items, 1 temporary item). Field office copies of communications of interest to all field offices produced under the Bureau-wide Information Program from 1973 to 1989. The record set of these files maintained at agency headquarters is proposed for permanent retention.

13. Department of Justice, Federal Bureau of Investigation (N1-65-00-7, 119 items, 32 temporary items). Headquarters and field office files closed prior to 1995 that pertain to investigations in such areas as foreign counterintelligence, equal employment opportunity, organized crime, civil rights, and economic espionage. Selected files for each type of investigation are proposed for permanent retention, including policy files, files on informants, statistical samples, and case files containing more than a specified number of documents or sections.

14. Department of the Treasury, Bureau of the Public Debt (N1-53-01-3, 3 items, 3 temporary items). Records relating to the sale of savings bonds from Federal Reserve Bank savings bond processing sites. Included are an electronic database and hardcopy and electronic versions of inputs.

15. Department of Veterans Affairs, Veterans Health Administration (N1-15-00-4, 8 items, 8 temporary items). Records relating to the Disaster Emergency Medical Personnel System, an electronic system which contains personal data on individual employees who volunteer to assist in national emergencies caused by catastrophic events. Records include paper and microfilm input documents, electronic files, backup files, reports, codebooks, and data system specifications. Also included are electronic copies of documents created using electronic mail and word processing.

16. Environmental Protection Agency, Office of Pollution, Prevention, and Toxics (N1-412-96-3, 15 items, 13 temporary items). Software, input documents, and electronic data with supporting documentation relating to the manufacture, production, and distribution of pesticides and other chemicals. Proposed for permanent retention are electronic databases, with supporting documentation, which report, for a comprehensive list of chemicals, detailed company and plant site information, along with specific volumes produced and distributed.

17. Federal Labor Relations Authority, Office of the Inspector General (N1-480-01-1, 27 items, 23 temporary items). Working papers pertaining to semi-annual reports, general subject correspondence, and a case tracking system as well as records relating to such matters as investigations, audits, and internal reviews. Also included are electronic copies of documents created using electronic mail and word processing. Recordkeeping copies of selected investigative case files, final audit and internal review reports, and semi-annual reports to Congress are proposed for permanent retention.

18. Board of Governors of the Federal Reserve System, Office of the Inspector General (N1-82-00-1, 5 items, and 5 temporary items). Investigative case files, files not related to specific investigations, audit work papers, and litigation case files. Also included are electronic copies of records created using electronic mail and word processing.

19. National Aeronautics and Space Administration, Headquarters (N1-255-00-6, 8 items, 6 temporary items). Congressional files including correspondence with Members of Congress, publication requests from Members of Congress, and congressional briefings relating to agency programs and projects. Also included are electronic copies of records created using electronic mail and word processing. Proposed for permanent retention are recordkeeping copies of correspondence to and from congressional committees and reports to Congress.

20. National Archives and Records Administration, Office of Records Services (N2-77-01-1, 1 item, 1 temporary item). Copies of satellite imagery files in the custody of the National Archives that were accumulated by the Army Corps of Engineers between 1970 and 1978. Records consist of black and white satellite film and such related textual materials as indexes, camera specifications, and catalogs. Recordkeeping copies of these files held by the U.S. Geological Survey were previously approved for permanent retention.

21. National Drought Policy Commission, Agency-wide (N1-220-00-7, 10 items, 4 temporary items). Reference materials, staff files, and electronic copies of records created using electronic mail and word processing. Recordkeeping copies of meeting and hearing files, briefing books, correspondence files, subject files, working group/subcommittee files, and publications are proposed for permanent retention.

22. Social Security Administration, Agency-wide (N1-047-00-3, 6 items, 6 temporary items). Records relating to claims filed by individuals suspected of intentionally giving false or incomplete information in applying for benefits, which could result in the agency penalizing the individual by omitting valid payments for a given period of time. Included are case files, electronic copies of documents created using electronic mail and word processing, an electronic database and copies maintained as system backup, supporting documentation, and outputs.

23. Tennessee Valley Authority, Synterprise Group (N1-142-99-12, 4 items, 3 temporary items). Administrative forms, correspondence, memoranda, and related records used in the process of developing projects to generate work for outsourced employees. Also included are electronic copies of documents created using electronic mail and word processing. Substantive program records are proposed for permanent retention.

24. Tennessee Valley Authority, Customer Services and Marketing (N1-142-99-13, 4 items, 3 temporary items). Forms, correspondence, memoranda, and related records pertaining to such subjects as automatic data processing, budget and finance, equipment and supplies, health and safety matters, personnel management, and procurement. Also included are electronic copies of documents created using electronic mail and word processing. Substantive program records are proposed for permanent retention.

Dated: December 20, 2000.
Howard P. Lowell,
Acting Assistant Archivist for Record Services—Washington, DC.

[FR Doc. 00-33253 Filed 12-28-00; 8:45 am]

BILLING CODE 7515-01-P